SECURITIES AND EXCHANGE COMMISSION

[Investment Company Act Release No. 30905; File No. 812-14124]

KKR Series Trust and Prisma Capital Partners LP; Notice of Application

February 4, 2014.

Correction

In notice document 2014-02766, appearing on pages 7719-7722 in the issue of Monday, February 10, 2014, make the following correction:

On page 7719, in the first column, the date, which was inadvertently omitted from the document heading, is added to read as set forth above.

[FR Doc. C1-2014-02766 Filed 2-13-14; 8:45 am]

BILLING CODE 1505-01-D